DEPARTMENT OF TRANSPORTATION

National Highway Traffic Safety Administration

[Docket No. DOT-NHTSA-2015-0115]

Notice and Request for Comments

AGENCY: National Highway Traffic Safety Administration (NHTSA), Department of Transportation (DOT).

ACTION: Notice and request for comments.

SUMMARY: The Department of Transportation (DOT) invites public comments about our intention to request the Office of Management and Budget (OMB) approval to renew an information collection. Before a Federal agency can collect certain information from the public, it must receive approval from the Office of Management and Budget (OMB). Under procedures established by the Paperwork Reduction Act of 1995, before seeking OMB approval, Federal agencies must solicit public comment on proposed collections of information, including extensions and reinstatement of previously approved collections.

DATES: Written comments should be submitted by February 2, 2016.

ADDRESSES: You may submit comments [identified by Docket No. DOT-OST-200X-XXXX] through one of the following methods:

• Federal eRulemaking Portal: http://www.regulations.gov. Follow the online instructions for submitting comments.

• Fax: 1-202-493-2251.

• Mail or Hand Delivery: Docket Management Facility, U.S. Department of Transportation, 1200 New Jersey Avenue SE., West Building, Room W12-140, Washington, DC 20590, between 9 a.m. and 5 p.m., Monday through Friday, except on Federal holidays.

FOR FURTHER INFORMATION CONTACT: Walter Culbreath 202-366-1566, Office of the Chief Information Officer, U.S. Department of Transportation, 1200 New Jersey Avenue SE., Washington, DC 20590.

SUPPLEMENTARY INFORMATION:

(1) OMB Control Number: 2127-0597

Title: 23 CFR Parts Uniform Safety Program Cost Summary Form for Highway Safety Plan.

Type of Review: Renewal of a previously approved information collection.

Abstract: Each State shall have a highway safety program approved by the Secretary, designed to reduce traffic accidents and deaths, injuries, and property damage resulting there from. Such program shall be in accordance with uniform guidelines promulgated by the Secretary to improve driver performance, and to improve pedestrian performance, motorcycle safety and bicycle safety. Under this program, States submit the Highway Safety Program and other documentation explaining how they intend to use the grant funds. In order to account for funds expended under these priority areas and other program areas, States are required to submit a Program Cost Summary. The Program Cost Summary is completed to reflect the State's proposed Allocation of funds (including carry-forward funds) by program area, based on the projects and activities identified in the Highway Safety Plan

Affected Public: Individuals and Households, Businesses and Organizations, State, Local or Tribal Government.

Estimated Number of Respondents: 57.

Frequency: 20 per year.

Number of Responses: 1,140.

Estimated Total Annual Burden Hours: 570 hours.

Estimated Total Annual Cost Burden: 0.

(2) OMB Control Number: 2127-0019

Title: CFR part 537, Automotive Fuel Economy Reports.

Type of Review: Renewal of a previously approved information collection.

Abstract: 49 United States Code (U.S.C.) 32907(a) requires a manufacturer to submit reports to the Secretary of Transportation on whether a manufacturer will comply with an applicable average fuel economy standard under 49 U.S.C. 32902 of this title for the model year for which the report is made; the actions a manufacturer has taken or intends to take to comply with the standard; and other information the Secretary requires by regulation. Under 49 CFR part 537, NHTSA also requires manufacturers to provide data on vehicle footprint so that the agency could determine a manufacturer's required fuel economy level and its compliance with that level. The information collected provides the National Highway Traffic Safety Administration (NHTSA) with advance indication whether automotive manufacturers are complying with the applicable average fuel economy standards; furnishes NHTSA with the necessary information to prepare its annual update on the Automotive Fuel Economy Program; aids NHTSA in responding to general requests concerning automotive fuel economy; and supplies NHTSA with detailed and current technical and economic information that will be used to evaluate possible future average fuel economy standards.

Respondents: Automobile manufacturers.

Estimated Number of Respondents: 30.

Estimated Number of Responses: 54; some manufacturers have multiple fleets and 49 CFR part 537 requires a separate report for each fleet.

Estimated Total Annual Burden: 3,189 hours.

Estimated Frequency: A pre-model report and a mid-model report are required to be submitted by manufacturers once per model year for each applicable fleet (domestic passenger car, imported passenger car, light trucks).

(3) OMB Control Number: 2127-0655

Title: 23 CFR Parts Uniform Safety Program Cost Summary Form for Highway Safety Plan.

Type of Request: Renewal of a previously approved information collection.

Abstract: In this collection of information, NHTSA is requesting updated future product plans from vehicle manufacturers, as well as production data through the recent past, including data about engines and transmissions for model year MY 2012 through MY 2025 passenger cars and light trucks and the assumptions underlying those plans.

NHTSA requests information for MYs 2012-2025 to aid NHTSA in developing a realistic forecast of the MY 2016-2025 vehicle market. Information regarding earlier model years may help the agency to better account for cumulative effects such as volume-and time-based reductions in costs, and also may help to reveal product mix and technology application trends during model years for which the agency is currently receiving actual corporate average fuel economy (CAFE) compliance data. Information regarding later model years helps the agency gain a better understanding of how manufacturers' plans through MY 2025 relate to their longer-term expectations regarding Energy Independence and Security Act requirements, market trends, and prospects for more advanced technologies.

NHTSA will also consider information from model years before and after MYs 2016-2025 when reviewing manufacturers' planned schedules for redesigning and freshening their products, in order to examine how manufacturers anticipate tying technology introduction to product design schedules. In addition, the agency is requesting information regarding manufacturers' estimates of the future vehicle population, and fuel economy improvements and incremental costs attributed to this notice.

Affected Public: Automobile manufacturers.

Number of Respondents: 30.

Number of Responses: 30.

Estimated Annual Burden Hours: 16,500 hours.

Frequency of Collection: Manufacturer product plans are requested each time that NHTSA initiates a rulemaking for light-duty fuel economy standards. These standards may be issued for a one to five year time frame, thus manufacturers would be expected to provide these reports every one to five years. Recent NHTSA rulemakings have typically ranged between three and five years. NHTSA generally requests product plans prior to issuing a notice of proposed rulemaking and prior to the issuance of a final rule. Since the gap between the two rules generally is less than a year, manufacturers would be expected to provide two reports for each rulemaking cycle.

Public Comments Invited: You are asked to comment on any aspect of this information collection, including (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Authority: The Paperwork Reduction Act of 1995; 44 U.S.C. Chapter 35, as amended; and 49 CFR 1:48.

Paul Mounkhaty,
Chief Architect, Office of IT Compliance.

[FR Doc. 2015-30610 Filed 12-3-15; 8:45 am]

BILLING CODE 4910-59-P